ENVIRONMENTAL PROTECTION AGENCY

40 CFR Part 52

[EPA-R06-OAR-2013-0542; FRL-9926-40-Region 6]

Reopening of Public Comment Period for Proposed Action; Texas; Revisions to the New Source Review State Implementation Plan; Flexible Permit Program

AGENCY: Environmental Protection Agency (EPA).

ACTION: Proposed rule; reopening of comment period.

SUMMARY: On December 31, 2014, the Environmental Protection Agency (EPA) published in the Federal Register a proposed rule to fully approve the Texas New Source Review (NSR) State Implementation Plan (SIP) for establishing the Flexible Permit Program and requested comment by January 30, 2015. The EPA is reopening the original public comment period of 30 days for the proposed rule for an additional 30 days from the date of publication. The reopening is necessary because we neglected to include certain supporting materials in the electronic docket. All previously submitted comments will be responded to as appropriate, and members of the public who have submitted comments during the prior comment period need not resubmit them at this time.

DATES: The comment period for the proposed rule published December 31, 2014 (79 FR 78752), is reopened. Written comments must be received on or before May 18, 2015.

ADDRESSES: Submit your comments, identified by Docket ID No. EPA-R06-OAR-2013-0542, by one of the following methods:

• http://www.regulations.gov. Follow the online instructions for submitting comments.

• Email: Ms. Stephanie Kordzi at kordzi.stephanie@epa.gov.

• Mail or delivery: Ms. Stephanie Kordzi, Air Permits Section (6PD-R), Environmental Protection Agency, 1445 Ross Avenue, Suite 1200, Dallas, Texas 75202-2733.

Instructions: Direct your comments to Docket ID No. EPA-R06-OAR-2013-0542. The EPA's policy is that all comments received will be included in the public docket without change and may be made available online at http://www.regulations.gov, including any personal information provided, unless the comment includes information claimed to be Confidential Business Information (CBI) or other information the disclosure of which is restricted by statute. Do not submit information through http://www.regulations.gov or email, if you believe that it is CBI or otherwise protected from disclosure. The http://www.regulations.gov Web site is an “anonymous access” system, which means that the EPA will not know your identity or contact information unless you provide it in the body of your comment. If you send an email comment directly to EPA without going through http://www.regulations.gov, your email address will be automatically captured and included as part of the comment that is placed in the public docket and made available on the Internet. If you submit an electronic comment, we recommend that you include your name and other contact information in the body of your comment along with any disk or CD-ROM submitted. If we cannot read your comment due to technical difficulties and cannot contact you for clarification, we may not be able to consider your comment. Electronic files should avoid the use of special characters and any form of encryption and should be free of any defects or viruses. For additional information about our public docket, visit the EPA Docket Center homepage at http://www.epa.gov/epahome/dockets.htm.

Docket: The index to the docket for this action is available electronically at www.regulations.gov and in hard copy at EPA Region 6, 1445 Ross Avenue, Suite 700, Dallas, Texas. While all documents in the docket are listed in the index, some information may be publicly available only at the hard copy location (e.g., copyrighted material), and some may not be publicly available at either location (e.g., CBI).

FOR FURTHER INFORMATION CONTACT: Ms. Stephanie Kordzi, (214) 665-7520, kordzi.stephanie@epa.gov. To inspect the hard copy materials please contact Ms. Kordzi or Mr. Bill Deese at (214) 665-7253.

SUPPLEMENTARY INFORMATION: Throughout this document whenever “we,” “us,” or “our” is used, we mean the EPA.

On December 31, 2014, we published in the Federal Register a proposed rule on the flexible permit program in Texas. See 79 FR 78752, December 31, 2014. In the original proposal, we requested comment by January 30, 2015. We are reopening the public comment period because we neglected to include certain supporting materials in Docket ID No. EPA-R06-OAR-2013-0542 at http://www.regulations.gov.

This reopening will provide an opportunity for the review and comment of all the relevant materials now posted in the public docket for 30 days from the date of today's publication.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: April 7, 2015.
William L. Luthans,
Multimedia Planning and Permitting Acting Director, Region 6.

[FR Doc. 2015-08662 Filed 4-16-15; 8:45 am]

BILLING CODE 6560-50-P